DEPARTMENT OF HEALTH AND HUMAN SERVICES

National Institutes of Health

National Institute on Alcohol Abuse and Alcoholism; Amended Notice of Meeting

Notice is hereby given of a change in the meeting of the National Advisory Council on Alcohol Abuse and Alcoholism, June 6, 2001, 7 p.m. to June 7, 2001, 4 p.m., Bethesda Marriott, 5151 Pooks Hill Road, Bethesda, MD, 20814 which was published in the Federal Register on May 2, 2001, 66 FR 21993.

The times for the open and closed sessions on June 7, 2001, have changed. The open session has been changed to 9 a.m. to 11:30 a.m. and 12 p.m. to 3:30 p.m. The closed session has been changed to 11:30 a.m. to 12 p.m. The meeting is partially Closed to the public.

Dated: May 10, 2001.
LaVerne Y. Stringfield,
Director, Office of Federal Advisory Committee Policy.

[FR Doc. 01-12461 Filed 5-16-01; 8:45 am]

BILLING CODE 4140-01-M